DEPARTMENT OF TRANSPORTATION

Federal Aviation Administration

14 CFR Part 39

[Docket No. FAA-2011-0456; Directorate Identifier 2011-NE-15-AD; Amendment 39-16711; AD 2011-12-04]

RIN 2120-AA64

Airworthiness Directives; BRP-Powertrain GmbH & Co. KG Rotax 912 F3, 912 S2, 912 S3, 912 S4, 914 F2, 914 F3, and 914 F4 Reciprocating Engines

AGENCY: Federal Aviation Administration (FAA), DOT.

ACTION: Final rule; request for comments.

SUMMARY: We are adopting a new airworthiness directive (AD) for the products listed above. This AD results from mandatory continuing airworthiness information (MCAI) issued by an aviation authority of another country to identify and correct an unsafe condition on an aviation product. The MCAI describes the unsafe condition as:

During a production process review, a deviation in hardening of certain Part Number (P/N) 944072 washers has been detected, which exceeds the hardness of the design specification.

The affected washers are part of the magneto ring flywheel hub installation and have been installed on a limited number of engines. No defective washers have been shipped as spare parts.

This condition, if not corrected, could lead to cracks in the washer, loosening of the magneto flywheel hub and consequent ignition failure, possibly resulting in damage to the engine, in-flight engine shutdown and forced landing, damage to the aeroplane and injury to occupants.

We are issuing this AD to prevent engine in-flight shutdown, and damage to the airplane.

DATES: This AD becomes effective June 27, 2011.

We must receive comments on this AD by July 11, 2011.

The Director of the Federal Register approved the incorporation by reference of BRP-Powertrain GmbH & Co. KG Rotax Mandatory Service Bulletins No. SB-912-058 and No. SB-914-041 (combined in one document), dated April 15, 2011, listed in the AD as of June 27, 2011.

ADDRESSES: You may send comments by any of the following methods:

• Federal eRulemaking Portal: Go to http://www.regulations.gov and follow the instructions for sending your comments electronically.

• Mail: U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (phone: (800) 647-5527) is the same as the Mail address provided in the ADDRESSES section. Comments will be available in the AD docket shortly after receipt.

FOR FURTHER INFORMATION CONTACT: Alan Strom, Aerospace Engineer, Engine Certification Office, FAA, Engine & Propeller Directorate, 12 New England Executive Park, Burlington, MA 01803; e-mail: alan.strom@faa.gov; phone: (781) 238-7143; fax: (781) 238-7199.

SUPPLEMENTARY INFORMATION:

Discussion

The European Aviation Safety Agency (EASA), which is the Technical Agent for the Member States of the European Community, has issued EASA Airworthiness Directive 2011-0067-E, dated April 15, 2011 (referred to after this as “the MCAI”), to correct an unsafe condition for the specified products. The MCAI states:

During a production process review, a deviation in hardening of certain Part Number (P/N) 944072 washers has been detected, which exceeds the hardness of the design specification.

The affected washers are part of the magneto ring flywheel hub installation and have been installed on a limited number of engines. No defective washers have been shipped as spare parts.

This condition, if not corrected, could lead to cracks in the washer, loosening of the magneto flywheel hub and consequent ignition failure, possibly resulting in damage to the engine, in-flight engine shutdown and forced landing, damage to the aeroplane and injury to occupants.

You may obtain further information by examining the MCAI in the AD docket.

Relevant Service Information

BRP-Powertrain GmbH & Co. KG has issued Rotax Mandatory Service Bulletins No. SB-912-058 and No. SB-914-041 (combined in one document), dated April 15, 2011. The actions described in this service information are intended to correct the unsafe condition identified in the MCAI.

FAA's Determination and Requirements of this AD

This product has been approved by the aviation authority of Austria and is approved for operation in the United States. Pursuant to our bilateral agreement with Austria, EASA has notified us of the unsafe condition described in the MCAI and service information referenced above. We are issuing this AD because we evaluated all information provided by EASA and determined the unsafe condition exists and is likely to exist or develop on other products of the same type design. This AD requires replacing the washer securing the magneto ring flywheel hub with a new washer of the same part number, on certain serial number BRP-Powertrain GmbH & Co. KG Rotax 912 and 914 reciprocating engines.

FAA's Determination of the Effective Date

An unsafe condition exists that requires the immediate adoption of this AD. The FAA has found that the risk to the flying public justifies waiving notice and comment prior to adoption of this rule because of the short compliance time in this AD of within 10 flight hours or at next maintenance after the effective date of the AD, whichever occurs first. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2011-0456; Directorate Identifier 2011-NE-15-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-12-04 BRP-Powertrain GmbH & Co. KG (Formerly Bombardier-Rotax GmbH): Amendment 39-16711.; Docket No. FAA-2011-0456; Directorate Identifier 2011-NE-15-AD.

Effective Date

(a) This airworthiness directive (AD) becomes effective June 27, 2011.

Affected ADs

(b) None.

Applicability

(c) This AD applies to the following BRP-Powertrain GmbH & Co. KG Rotax reciprocating engines:

(1) Model 912 F3—serial number (S/N) 4,412.986 and S/N 4,412.987.

(2) Models 912 S2, 912 S3, and 912 S4—S/N 4,924.087 through S/N 4,924.139 inclusive, and S/N 4,924.141 through 4,924.166 inclusive.

(3) Models 914 F2, 914 F3, and 914 F4—S/N 4,420.970 through 4,420.990 inclusive, S/N 4,420.997, and S/N 4,421.001 through 4,421.003 inclusive.

Reason

(d) This AD results from mandatory continuing airworthiness information (MCAI) issued by an aviation authority of another country to identify and correct an unsafe condition on an aviation product. The MCAI describes the unsafe condition as:

During a production process review, a deviation in hardening of certain Part Number (P/N) 944072 washers has been detected, which exceeds the hardness of the design specification.

The affected washers are part of the magneto ring flywheel hub installation and have been installed on a limited number of engines. No defective washers have been shipped as spare parts.

This condition, if not corrected, could lead to cracks in the washer, loosening of the magneto flywheel hub and consequent ignition failure, possibly resulting in damage to the engine, in-flight engine shutdown and forced landing, damage to the aeroplane and injury to occupants.

We are issuing this AD to prevent engine in-flight shutdown, and damage to the airplane.

Actions and Compliance

(e) Unless already done, do the following actions within 10 flight hours or at next maintenance after the effective date of this AD, whichever occurs first:

(1) Replace the magneto ring flywheel hub washer, P/N 944072.

(2) Use paragraph 3.1 of BRP-Powertrain GmbH & Co. KG Rotax Mandatory Service Bulletin SB-912-058, dated April 15, 2011 or SB-914-041 dated April 15, 2011, to do the replacement.

Prohibition

(f) After the effective date of this AD, do not install any washer P/N 944072 removed as specified in paragraph (e)(1) of this AD into any magneto or onto any engine.

FAA AD Differences

(g) This AD differs from the Mandatory Continuing Airworthiness Information (MCAI) as follows:

(1) European Aviation Safety Agency (EASA) AD 2011-0067-E requires compliance within 10 flight hours or 4 calendar months after the effective date of the AD, whichever occurs first. This AD requires compliance within 10 flight hours or at next maintenance after the effective date of this AD, whichever occurs first.

(2) EASA AD 2011-0067-E requires operators to return the washer removed from service to BRP-Powertrain GmbH & Co. KG. This AD does not.

Alternative Methods of Compliance (AMOCs)

(h) The Manager, Engine Certification Office, FAA, has the authority to approve AMOCs for this AD, if requested using the procedures found in 14 CFR 39.19.

Related Information

(i) Refer to MCAI EASA AD 2011-0067-E, dated April 15, 2011, for related information.

(j) Contact Alan Strom, Aerospace Engineer, Engine Certification Office, FAA, Engine & Propeller Directorate, 12 New England Executive Park, Burlington, MA 01803; e-mail: alan.strom@faa.gov; phone (781) 238-7143; fax (781) 238-719, for more information about this AD.

Material Incorporated by Reference

(k) You must use BRP-Powertrain GmbH & Co. KG Rotax Mandatory Service Bulletins No. SB-912-058 and No. SB-914-041 (combined in one document), dated April 15, 2011, to do the actions required by this AD.

(1) For service information identified in this AD, contact BRP-Powertrain GmbH & Co. KG, Welser Strasse 32, A-4623 Gunskirchen, Austria, or go to: http://www.rotax-aircraft-engines.com.

(2) You may review copies at the FAA, New England Region, 12 New England Executive Park, Burlington, MA; or at the National Archives and Records Administration (NARA). For information on the availability of this material at NARA, call (202) 741-6030, or go to: http://www.archives.gov/federal-register/cfr/ibr-locations.html.

Issued in Burlington, Massachusetts, on May 26, 2011.
Peter A. White,
Acting Manager, Engine and Propeller Directorate, Aircraft Certification Service.

[FR Doc. 2011-14239 Filed 6-9-11; 8:45 am]

BILLING CODE 4910-13-P